DEPARTMENT OF THE INTERIOR

National Park Service

[NPS-WASO-NAGPRA-19586; PPWOCRADN0-PCU00RP14.R50000]

Notice of Inventory Completion: Department of Anthropology at Indiana University, Bloomington, IN

AGENCY: National Park Service, Interior.

ACTION: Notice.

SUMMARY: The Department of Anthropology at Indiana University has completed an inventory of human remains and associated funerary objects in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Indiana University NAGPRA Office. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Indiana University NAGPRA Office at the address in this notice by December 17, 2015.

ADDRESSES: Dr. Jayne-Leigh Thomas, NAGPRA Director, Indiana University, NAGPRA Office, Student Building 318, 701 E. Kirkwood Avenue, Bloomington, IN 47405, telephone (812) 856-5315, email thomajay@indiana.edu.

SUPPLEMENTARY INFORMATION: Notice is here given in accordance with the Native American Graves Protection and Repatriation Act (NAGPRA), 25 U.S.C. 3003, of the completion of an inventory of human remains and associated funerary objects under the control of the Department of Anthropology at Indiana University, Bloomington, IN.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Indiana University professional staff in consultation with representatives of the Peoria Tribe of Indians of Oklahoma.

History and Description of the Remains

On an unknown date, human remains representing, at minimum, 12 individuals from the Starved Rock site in La Salle County, IL, were donated to the Department of Anthropology at Indiana University. No known individuals were identified. There is one associated funerary object which is a bone bead. Notes indicate that these remains may have been excavated in the 1940s.

Starved Rock is a prominent landmark located on the southern bank of the upper Illinois River, with human habitation dating back over 8,000 years. This area is known to have been inhabited by tribes belonging to the Illinois Confederacy. Historical accounts report that Starved Rock was selected by La Salle as the site of Fort St. Louis during the late 17th century. It was then occupied by the Peoria people during the early 1700s. The human remains from this site have been determined to be likely Peoria, Kaskaskia, or from another tribe of the Illinois Confederacy; the modern day descendants are the Peoria Tribe of Indians of Oklahoma.

In 1956, human remains representing, at minimum, 1 individual, were donated to the Department of Anthropology at Indiana University from the Cincinnati Society of Natural History. Notes indicate that these remains may have been part of the Chicago Historical Society collections prior to 1950. The human remains are labeled as being from a `Cascaskian' individual. No other information is present. No known individuals were identified. No associated funerary objects are present. The `Cascaskia' or `Kaskaskia' were one of the tribes which made up the Illinois Confederacy. The modern descendants are the Peoria Tribe of Indians of Oklahoma.

In 1974, human remains representing, at minimum, 17 individuals and 211 associated funerary objects, were donated to the Department of Anthropology at Indiana University from a private citizen. No known individuals were identified. The associated funerary objects include 1 flint chip, 86 glass beads, 103 shell beads, 1 corn cob fragment, 1 raccoon mandible, 1 piece of worked stone, 9 metal fragments, 1 metal cross, 2 metal beads, 3 pieces of preserved fabric, and 3 pieces of wood. Notes indicate that this collection was excavated from Fort Chartres in Randolph County, Illinois. Individuals are listed as being affiliated with the Illiniwek tribe.

When French explorers reached the upper Mississippi Valley during the 17th century, the area was heavily populated by the Illiniwek, also known as the Illinois Confederacy. In 1720, the French constructed a fort known as Fort de Chartres along the Mississippi River in IL. This fort was built near the Illiniwek villages and the French at Fort de Chartres began forming trade relationships with the Illinois tribes. As mentioned above, the modern descendants of the Illiniwek are the Peoria Tribe of Indians of Oklahoma.

Determinations Made by Indiana University

Officials of the Department of Anthropology at Indiana University have determined that:

• Pursuant to 25 U.S.C. 3001(9), the human remains described in this notice represent the physical remains of 30 individuals of Native American ancestry.

• Pursuant to 25 U.S.C. 3001(3)(A), the 212 objects described in this notice are reasonably believed to have been placed with or near individual human remains at the time of death or later as part of the death rite or ceremony.

• Pursuant to 25 U.S.C. 3001(2), there is a relationship of shared group identity that can be reasonably traced between the Native American human remains and the Peoria Tribe of Indians of Oklahoma.

Additional Requestors and Disposition

Lineal descendants or representatives of any Indian tribe or Native Hawaiian organization not identified in this notice that wish to request transfer of control of these human remains should submit a written request with information in support of the request to Dr. Jayne-Leigh Thomas, NAGPRA Director, Indiana University, NAGPRA Office, Student Building 318, 701 E. Kirkwood Avenue, Bloomington, IN 47405, telephone (812) 856-5315, email thomajay@indiana.edu, by December 17, 2015. After that date, if no additional requestors have come forward, transfer of control of the human remains to the Peoria Tribe of Oklahoma may proceed.

Indiana University is responsible for notifying the Peoria Tribe of Oklahoma that this notice has been published.

Dated: October 14, 2015.
Melanie O'Brien,
Manager, National NAGPRA Program.

[FR Doc. 2015-29354 Filed 11-16-15; 8:45 am]

BILLING CODE 4312-50-P